DEPARTMENT OF HEALTH AND HUMAN SERVICES

Substance Abuse and Mental Health Services Administration

Agency Information Collection Activities: Proposed Collection; Comment Request

In compliance with section 3506(c)(2)(A) of the Paperwork Reduction Act of 1995 concerning opportunity for public comment on proposed collections of information, the Substance Abuse and Mental Health Services Administration will publish periodic summaries of proposed projects. To request more information on the proposed projects or to obtain a copy of the information collection plans, call the SAMHSA Reports Clearance Officer on (301) 443-7978.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Community Mental Health Centers (CMHC) Construction Grantee Checklist—(OMB No. 0930-0104, extension, no change)—Recipients of Federal CMHC construction funds are obligated to use the constructed facilities to provide mental health services. The CMHS Act was repealed in 1981 except for the provision requiring grantees to continue using the facilities for mental health purposes for a 20-year period. In order for SAMHSA's Center for Mental Health Services to monitor compliance of construction grantees, the grantees are required to submit an annual report. This annual checklist enables grantees to supply necessary information efficiently and with a minimum of burden. The following table summarizes the annual burden for this program.

| Annual respondents | Responses/respondent | Hours per response | Annual burden
CMHS Grantee Construction Checklist (42 CFR 54.209(h), 42 CFR 54.213, 42 CFR 54.214) | 6* | 1 | .42 | 3
* Average over the 3-year approval period as grantees with service obligations continue to complete their period of obligation.

Send comments to Nancy Pearce, SAMHSA Reports Clearance Officer, Room 16-105, Parklawn Building, 5600 Fishers Lane, Rockville, MD 20857. Written comments should be received within 60 days of this notice.

Dated: January 7, 2004.
Anna Marsh,
Acting Executive Officer, SAMHSA.

[FR Doc. 04-768 Filed 1-13-04; 8:45 am]

BILLING CODE 4162-20-P